DEPARTMENT OF TRANSPORTATION

Federal Aviation Administration

Runway Incursion Information Evaluation Program

AGENCY: Federal Aviation Administration (FAA), DOT.

ACTION: Notice of program renewal.

SUMMARY: This document announces the renewal and expansion for a 24-month period of the Runway Incursion Information Evaluation Program (RIIEP) for the purpose of gathering further information about the causal factors of runway incursions and surface incidents through in-depth interviews of pilots or maintenance technicians involved in such events. This document expands the collection of information under the RIIEP to include surface incidents as defined in this document. Additionally, this document states the FAA's policy concerning enforcement-related incentives for pilots and maintenance technicians to encourage them to participate in the program, and the FAA's policy concerning the use for enforcement purposes of information provided by pilots and maintenance technicians under the program.

DATES: The program is in effect from August 19, 2004 through July 20, 2006.

FOR FURTHER INFORMATION CONTACT: Will Swank, AVR/AFS Representative, Office of Runway Safety and Operational Services, Federal Aviation Administration, 490 L'Enfant Plaza, Suite 7225, Washington, DC 20024; Telephone (202) 385-4776; E-mail will.swank@faa.gov.

SUPPLEMENTARY INFORMATION:

Background

One of the FAA's top safety priorities is to prevent runway incursions.¹ To help achieve this goal, the FAA has implemented several initiatives to reduce runway incursions through enhanced education and training of pilots and maintenance technicians, and by gathering and evaluating data on the causes of runway incursions and surface incidents.²

¹ Runway Incursion is defined as “any occurrence in the airport runway environment involving an aircraft, vehicle, person, or object on the ground that creates a collision hazard or results in a loss of required separation with an aircraft taking off, intending to take off, landing, or intending to land.” Runway incursions are identified and tracked at towered airports (those airports with an operating FAA or contract tower).

² Surface incidents, for the purpose of the RIIEP, are defined as only those incidents where an aircraft operated by a pilot or maintenance technician taxiing enters a runway safety area without a clearance but another aircraft was not present.

The Flight Standards Service ordinarily is immediately aware of all reported surface incidents because it is notified by the Air Traffic Organization. However, often the FAA knows little about why the reported incident happened or the factors and events that led to it. Accordingly, in March 2000, the FAA implemented the Runway Incursion Information and Evaluation Program (RIIEP) for a period of 1 year. Through the RIIEP the FAA sought information about runway incursions by interviewing pilots involved in such events. Under the original RIIEP, pilots involved in runway incursions who cooperated with FAA inspectors by providing information about the incident were generally not subjected to punitive legal enforcement action for an apparent violation involving the incursion. We expected the pilot to share valuable safety information that would help us identify the cause of the runway incursion in which the pilot was involved. We wanted this information to determine root causes of runway incursions and to develop effective corrective actions to help reduce or eliminate this problem.

Over the course of a year, the RIIEP produced new information about some causes of runway incursions. The program showed promise as a useful tool for gathering information to develop strategies to prevent runway incursions. The FAA learned, however, that we needed to change certain processes to make the RIIEP a more effective program. In particular, we needed a more extensive interview questionnaire to give us detailed information that could help us determine the root causes of runway incursions more directly. In addition, we needed an improved method for processing information collected under the RIIEP. With these changes, the FAA believes the RIIEP could be a much more effective program for analyzing the causes of runway incursions and surface incidents, particularly the human factors aspects of those causes. Accordingly, we have modified the RIIEP and decided to renew the program for 24 months. Ninety days before the end of this period, the FAA will evaluate the RIIEP to determine whether the program is providing valuable safety information and whether we should continue the program or let it expire.

Renewed Runway Incursion Information and Evaluation Program

Under the renewed RIIEP, any pilot or maintenance technician taxiing an aircraft involved in an apparent runway incursion or surface incident may expect to be contacted by an FAA inspector within a few days after the incident. The inspector will inform the pilot or maintenance technician that participation in the RIIEP interview process is voluntary. The inspector may conduct the interview in person or by telephone.

The Flight Standards Service has developed standardized RIIEP interview questionnaires, one for pilots and one for maintenance technicians, from which the inspector will ask the pilot or maintenance technician questions. To get complete information about the runway incursion or surface incident for analysis and to implement future preventive measures, the inspector will also encourage pilots and maintenance technicians to provide additional comments to the inspector. The inspector will record any comments in the RIIEP questionnaire “comments section.” These comments may be on anything about the event and may range from general to specific.

RIIEP Enforcement Policy

The FAA opens an enforcement investigation when it receives a report of a pilot deviation or a vehicle or pedestrian deviation, which are categories of runway incursion or surface incidents that involve possible regulatory violations by a pilot or maintenance technician. If the investigation reveals a violation of the FAA's regulations, the pilot or maintenance technician is subject to a legal enforcement action (certificate action or civil penalty). However, as an incentive to encourage participation in the RIIEP, for airmen who cooperate and provide detailed information regarding the deviation, the FAA plans to forgo punitive legal enforcement actions (certificate suspension for a fixed period or civil penalty), and instead use administrative action ³ or counseling ⁴, which involve no finding of violation, provided:

³ An administrative action is either a warning notice or letter of correction, which is generally issued when remedial training is taken.

⁴ Counseling is an action carried out under the guidance of the FAA's Aviation Safety Program, which is a program designed to promote safety and technical proficiency by providing guidance and support for the aviation community through education and cooperative efforts.

1. The nature of the apparent violation does not indicate that a certificate holder lacks qualification to hold a certificate;

2. The apparent violation was inadvertent, that is, it was not the result of purposeful conduct;

3. The apparent violation was not a substantial disregard for safety or security;

4. The apparent violator has a constructive attitude toward complying with the regulations; and

5. The apparent violation does not indicate a trend of noncompliance.

In certain cases, the FAA may determine an airman should complete corrective action to help prevent another runway incursion or surface incident, such as remedial training. Such corrective action is voluntary; however, refusal by the pilot or maintenance technician to undertake it could result in punitive legal enforcement action being taken for the apparent violation.

If an apparent violation resulting from the runway incursion or surface incident, or the circumstances surrounding the runway incursion or surface incident, demonstrate or raise a question of lack of qualification of an airman, the FAA will proceed with appropriate action. This may include reexamination, certificate suspension pending successful reexamination, or certificate revocation.

Foreign airmen may not participate in the RIIEP.

Runway Safety Education Demonstrating a Constructive Attitude

In determining whether an apparent violator has a constructive attitude toward complying with the regulations, FAA may consider documentation showing the completion of an FAA-sponsored, industry-conducted safety seminar on the subject implicated in the apparent violation.

The FAA is sponsoring an industry-conducted Pilot and Mechanic Runway Safety Education program available on the Internet at http://www.aopa.org/asf/runway_Safety/. We will consider successful completion and documentation of this Runway Safety education program favorably in determining the course of action we will take when a pilot or maintenance technician is involved in a runway incursion or surface incident. The Runway Safety Education program will also qualify for credit under the Pilot Proficiency Awards (WINGS) Program or the Aviation Maintenance Technician Awards (AMT) Program.

Using Information Provided By Pilots or Maintenance Technicians Under the RIIEP

The FAA recognizes pilots and maintenance technicians will have concerns that the information they provide under this program will be used by the FAA to take legal enforcement actions against them. The FAA, however, does not expect to use information provided by pilots or maintenance technicians during interviews conducted by FAA inspectors under the RIIEP in any FAA punitive legal enforcement action.

RIIEP Application Under an Approved Aviation Safety Action Programs (ASAP)

Reports of runway incursion and surface incident events that are accepted under an approved ASAP will be handled in accordance with Advisory Circular (AC) 120-66, Aviation Safety Action Programs (ASAP), as amended, and the Memorandum of Understanding between the FAA and the certificate holder. As with ASAP, the objective of the RIIEP is to encourage the voluntary reporting of safety information that may be critical to identifying potential precursors to accidents. Incorporation of the RIIEP under an approved ASAP is therefore strongly encouraged, to include:

1. Certificate holder's participation in the RIIEP;

2. Use of the RIIEP questionnaire during the ASAP report investigation; and

3. Compliance with FAA Order 8400.10, Volume 1, Chapter 5, Section 1, paragraph 293E concerning enforcement investigation coordination of possible violations reported under an approved ASAP.

RIIEP Renewal

This renewal of the RIIEP will be in effect for 24 months beginning the effective date listed above.

Issued in Washington, DC, on July 13, 2004.
Marion C. Blakey,
Administrator.

[FR Doc. 04-16518 Filed 7-16-04; 11:22 am]

BILLING CODE 4910-13-P